DEPARTMENT OF THE INTERIOR

Bureau of Land Management

[UTU 80808]

Notice of Proposed Withdrawal and Transfer of Jurisdiction; Utah

AGENCY: Bureau of Land Management, Interior.

ACTION: Notice of realty action.

SUMMARY: The Department of Energy (DOE) has filed an application requesting the Secretary of the Interior to withdraw approximately 936 acres of land from the United States mining and mineral leasing laws and transfer jurisdiction to the DOE. The land would be used for ancillary facilities at the DOE's Crescent Junction Uranium Mill Tailings Repository in connection with moving the Moab Mill Site uranium mill tailings to the Repository. Except for existing claims, rights, and interests, including oil and gas leases that would be retained by the Secretary of the Interior, full management, jurisdiction, authority, responsibility, and liability for all activities conducted on the land would be vested in the DOE.

DATES: Comments must be received on or before December 22, 2008.

ADDRESSES: Comments should be sent to the Moab Field Office Manager, Bureau of Land Management, 82 East Dogwood Avenue, Moab, Utah 84532.

FOR FURTHER INFORMATION CONTACT: Mary von Koch, Realty Specialist, Moab Field Office at the above address, 435-259-2128.

SUPPLEMENTARY INFORMATION: The DOE has filed an application with the Bureau of Land Management (BLM) requesting the Secretary of the Interior withdraw the following described land from mining and mineral leasing and transfer jurisdiction to the DOE, subject to valid existing claims, rights, and interests:

Salt Lake Meridian

T. 21 S., R. 19 E.,

Sec. 22, S½, excluding SE¼SE¼SW¼, NE¼SW¼SE¼, S½SW¼SE¼, and SE¼SE¼;

Sec. 23, S½, excluding S½S½N½SW¼, S½SW¼, and W½SW¼SW¼SE¼;

Sec. 26, the land lying North of the railroad right-of-way, excluding W½W½NW¼NE¼, N½NW¼, N½SW¼NW¼, N½NE¼SE¼NW¼, and NW¼SE¼NW¼;

Sec. 27, the land lying North of the railroad right-of-way, excluding N½NE¼, SW¼NE¼, N½SE¼NE¼, SW¼SE¼NE¼, E½NE¼NW¼, and E½SE¼NW¼.

The area described contains approximately 936 acres in Grand County.

The purpose is to transfer jurisdiction of the 936 acres to the DOE and to protect DOE's ancillary facilities at the DOE's Crescent Junction Uranium Mill Tailings Repository in connection with moving the Moab Mill Site uranium mill tailings to the Repository.

The land proposed for transfer is located within a temporary DOE withdrawal created by Public Land Order No. 7649, and is therefore already segregated from mining and mineral leasing.

Except for existing claims, rights, and interests, including oil and gas leases that would be retained by the Secretary of the Interior, full management, jurisdiction, authority, responsibility, and liability for all activities conducted on the land would be vested in the DOE.

For a period of 90 days from the date of publication of this notice, all persons who wish to submit comments, suggestions, or objections in connection with the proposed action may present their views in writing to the BLM Moab Field Office Manager, at the address noted above.

Comments, including names and street addresses of respondents, and records relating to the proposed action will be available for public review during regular business hours at the BLM Moab Field Office at the address specified above. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed withdrawal and transfer of jurisdiction. All interested persons who desire a public meeting for the purpose of being heard on the proposal must submit a written request to the BLM Moab Field Office at the address indicated above within 90 days from the date of publication of this notice. If the authorized officer determines that a public meeting will be held, a notice of the time and place will be published in the Federal Register at least 30 days before the scheduled date of the meeting.

There are no suitable alternatives. Rights-of-way or interagency agreements are not considered desirable or acceptable alternatives. They would not protect the BLM from the associated liability risks and they would not adequately constrain nondiscretionary uses that could adversely affect public health and safety.

All potential sites within a reasonable vicinity of the Repository were evaluated. The preferred site is strategically located adjacent to the Repository as identified by DOE as the optimal location for the ancillary facilities.

This application will be processed in accordance with the regulations set forth in 43 CFR 2300.

Authority: 43 CFR 2310.3-1.

Dated: September 12, 2008.
Jeff Rawson,
State Director.

[FR Doc. E8-22042 Filed 9-19-08; 8:45 am]

BILLING CODE 6450-01-P